DEPARTMENT OF TRANSPORTATION

Federal Aviation Administration

14 CFR Part 39

[Docket No. FAA-2010-0639; Directorate Identifier 2009-NM-232-AD]

RIN 2120-AA64

Airworthiness Directives; McDonnell Douglas Corporation Model DC-8-31, DC-8-32, DC-8-33, DC-8-41, DC-8-42, and DC-8-43 Airplanes; Model DC-8-50 Series Airplanes; Model DC-8F-54 and DC-8F-55 Airplanes; Model DC-8-60 Series Airplanes; Model DC-8-61 Series Airplanes; Model DC-8-70 Series Airplanes; and Model DC-8-70F Series Airplanes

AGENCY: Federal Aviation Administration (FAA), Department of Transportation (DOT).

ACTION: Notice of proposed rulemaking (NPRM).

SUMMARY: The FAA proposes to supersede an existing airworthiness directive (AD) that applies to all of the McDonnell Douglas Corporation airplanes identified above. The existing AD currently requires revising the maintenance program to incorporate new airworthiness limitations for fuel tank systems to satisfy Special Federal Aviation Regulation No. 88 requirements. This proposed AD would add requirements to revise the maintenance program to incorporate specific Critical Design Configuration Control Limitations (CDCCL) information and install fuel tank float switch in-line fuses. This proposed AD would also add two Airworthiness Limitations inspections (ALIs). This proposed AD results from a design review of the fuel tank systems. We are proposing this AD to prevent the potential for ignition sources inside fuel tanks caused by latent failures, alterations, repairs, or maintenance actions, which, in combination with flammable fuel vapors, could result in a fuel tank explosion and consequent loss of the airplane.

DATES: We must receive comments on this proposed AD by August 9, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Comments Invited

We invite you to send any written relevant data, views, or arguments about this proposed AD. Send your comments to an address listed under the ADDRESSES section. Include “Docket No. FAA-2010-0639; Directorate Identifier 2009-NM-232-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On April 4, 2008, we issued AD 2008-09-04, Amendment 39-15484 (73 FR 21523, April 22, 2008), for all Model DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. That AD requires revising the maintenance program to incorporate new airworthiness limitations for fuel tank systems to satisfy Special Federal Aviation Regulation No. 88 requirements. That AD resulted from a design review of the fuel tank systems. We issued that AD to prevent the potential for ignition sources inside fuel tanks caused by latent failures, alterations, repairs, or maintenance actions, which, in combination with flammable fuel vapors, could result in a fuel tank explosion and consequent loss of the airplane.

Actions Since Existing AD Was Issued

Since we issued AD 2008-09-04, we have been notified that the float switch wires located on the leading edges of the left and right wings at the front spar are routed in the same bundles as power wires. If a short circuit between a float switch wire and a power wire occurs, an over-current can cause excessive temperatures in the float switch wires, resulting in damage. Adding an in-line fuse as a self-contained component in each float switch circuit will minimize the possibility of excessive temperatures in the float switch wires. If not corrected, and if there is a short circuit of the float switch wire to a power wire, possible damage to the float switch wire could occur, and it could become a potential ignition source into the fuel tank and consequently cause fire or an explosion.

Relevant Service Information

We have reviewed Boeing Service Bulletin DC8-28-090, dated October 9, 2009. This service bulletin describes procedures for installing fuel tank float switch in-line fuses in the front spar of the leading edges of the left and right wings. This service bulletin references CDCCL 20-10 from Boeing Special Compliance Item Report, MDC-02K9030, Revision B, dated July 23, 2009. Boeing DC-8 Special Compliance Item Report, MDC-02K9030, Revision B, dated July 23, 2009, adds CDCCL 20-10 “DC-8 Float Switch Circuit,” and also adds ALI 30-1 for a pneumatic system decay check to minimize the risk of hot air impingement on the fuel tank. Boeing DC-8 Special Compliance Item Report, MDC-02K9030, Revision C, dated January 5, 2010, adds ALI 28-1, “DC-8 Alternate and Center Auxiliary Tank Fuel Pump Control Systems Check.”

FAA's Determination and Requirements of the Proposed AD

We have evaluated all pertinent information and identified an unsafe condition that is likely to develop on other airplanes of the same type design. For this reason, we are proposing this AD, which would supersede AD 2008-09-04 and would retain the requirements of the existing AD. This proposed AD would also require accomplishing the actions specified in the service information described previously.

Changes to Existing AD

This proposed AD would retain all requirements of AD 2008-09-04. Since AD 2008-09-04 was issued, the AD format has been revised, and certain paragraphs have been rearranged. As a result, the corresponding paragraph identifiers have changed in this proposed AD, as listed in the following table:

Revised Paragraph Identifiers
Requirement in AD 2008-09-04 | Corresponding requirement in this proposed AD
paragraph (f) | paragraph (g)
paragraph (g) | paragraph (h)
paragraph (h) | paragraph (i)

AD 2008-09-04 allowed the use of later revisions of the airworthiness limitations. That provision has been removed from this AD. Allowing the use of “a later revision” of specific service documents violates Office of the Federal Register regulations for approving materials that are incorporated by reference. We have added paragraph (m) to this AD to allow incorporation of Boeing DC-8 Special Compliance Item Report, MDC-02K9030, Revision B, dated July 23, 2009; and Revision C, dated January 5, 2010; as a method of compliance with the requirements of paragraph (g) of this AD. Affected operators, however, may request approval to use a later revision of the referenced service documents as an alternative method of compliance, under the provisions of paragraph (o) of this AD.

Costs of Compliance

There are about 125 airplanes of the affected design in the worldwide fleet. The following table provides the estimated costs for U.S. operators to comply with this proposed AD.

Estimated Costs
Action | Work hours | Average labor rate per hour | Parts | Cost per airplane | Number of U.S.-registered airplanes | Fleet cost
Revising the Maintenance Program (required by AD 2008-09-04) | 1 | $85 | $0 | $85 | 125 | $10,625.
Revising the Airworthiness Limitation Section (new proposed action) | 1 | 85 | 0 | $85 | 125 | $10,625.
Installing fuses (new proposed action) | Up to 35 | 85 | 0 | Up to $2,975 | 125 | Up to $371,875.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15484 (73 FR 21523, April 22, 2008) and adding the following new AD:

McDonnell Douglas Corporation: Docket No. FAA-2010-0639; Directorate Identifier 2009-NM-232-AD.

Comments Due Date

(a) The FAA must receive comments on this AD action by August 9, 2010.

Affected ADs

(b) This AD supersedes AD 2008-09-04, Amendment 39-15484.

Applicability

(c) This AD applies to all McDonnell Douglas Model DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes; and Model DC-8-71F, DC-8-72F, and DC-8-73F airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) in accordance with paragraph (o) of this AD. The request should include a description of changes to the required inspections that will ensure the continued operational safety of the airplane.

Subject

(d) Air Transport Association (ATA) of America Code 28: Fuel.

Unsafe Condition

(e) This AD results from a design review of the fuel tank systems. The Federal Aviation Administration is issuing this AD to prevent the potential for ignition sources inside fuel tanks caused by latent failures, alterations, repairs, or maintenance actions, which, in combination with flammable fuel vapors, could result in a fuel tank explosion and consequent loss of the airplane.

Compliance

(f) You are responsible for having the actions required by this AD performed within the compliance times specified, unless the actions have already been done.

Restatement of Requirements of AD 2008-09-04, With Revised Compliance Method

Revise the Maintenance Program

(g) Before December 16, 2008, revise the maintenance program to incorporate the information specified in Appendixes B, C, and D of the Boeing DC-8 Special Compliance Item Report, MDC-02K9030, Revision A, dated August 8, 2006.

No Reporting Requirement

(h) Although the Boeing DC-8 Special Compliance Item Report, MDC-02K9030, Revision A, dated August 8, 2006, specifies to submit certain information to the manufacturer, this AD does not require that action.

No Alternative Inspections, Inspection Intervals, or Critical Design Configuration Control Limitations (CDCCLs)

(i) Except as provided by paragraph (m) of this AD, after accomplishing the applicable actions specified in paragraph (g) of this AD, no alternative inspections, inspection intervals, or CDCCLs may be used unless the inspections, intervals, or CDCCLs are approved as an AMOC in accordance with the procedures specified in paragraph (o) of this AD.

New Requirements of This AD

Revise the Maintenance Program

(j) Within 30 days after the effective date of this AD, revise the maintenance program to incorporate the information required by paragraphs (j)(1), (j)(2), and (j)(3) of this AD.

(1) CDCCL 20-10, “DC-8 Float Switch Circuit” in Appendix B of Boeing DC-8 Special Compliance Item Report, MDC-02K9030, Revision C, dated January 5, 2010.

(2) ALI 30-1 “DC-8 Pneumatic System Decay Check” in Appendix C of Boeing DC-8 Special Compliance Item Report, MDC-02K9030, Revision C, dated January 5, 2010.

(3) ALI 28-1, “DC-8 Alternate and Center Auxiliary Tank Fuel Pump Control Systems Check,” in Appendix C of Boeing DC-8 Special Compliance Item Report, MDC-02K9030, Revision C, dated January 5, 2010.

Install the In-Line Fuses

(k) Within 60 months after the effective date of this AD, install the fuel tank float switch in-line fuses in the leading edges of the front spars of the left and right wings, in accordance with the Accomplishment Instructions of Boeing Service Bulletin DC8-28-090, dated October 9, 2009.

No Alternative Inspections, Inspection Intervals, or Critical Design Configuration Control Limitations (CDCCLs)

(l) After accomplishing the actions specified in paragraph (k) of this AD, no alternative inspections, inspection intervals, or CDCCLs may be used unless the inspections, intervals, or CDCCLs are approved as an AMOC in accordance with the procedures specified in paragraph (o) of this AD.

(m) Revising the maintenance program to incorporate the information specified in Appendixes B, C, and D of the Boeing DC-8 Special Compliance Item Report, MDC-02K9030, Revision B, dated July 23, 2009; or Revision C, dated January 5, 2010; is an acceptable method of compliance with the actions specified in paragraph (g) of this AD.

No Reporting Requirement

(n) Although the Boeing DC-8 Special Compliance Item Report, MDC-02K9030, Revision B, dated July 23, 2009; and Revision C, dated January 5, 2010; specify to submit certain information to the manufacturer, this AD does not require that action.

Alternative Methods of Compliance (AMOCs)

(o)(1) The Manager, Los Angeles Aircraft Certification Office (ACO), FAA, has the authority to approve AMOCs for this AD, if requested using the procedures found in 14 CFR 39.19. Send information to ATTN: Samuel Lee, Aerospace Engineer, Propulsion Branch, ANM-140L, FAA, Los Angeles Aircraft Certification Office (ACO), 3960 Paramount Boulevard, Lakewood, California 90712-4137; telephone (562) 627-5262; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on June 21, 2010.
Ali Bahrami,
Manager, Transport Airplane Directorate, Aircraft Certification Service.

[FR Doc. 2010-15400 Filed 6-24-10; 8:45 am]

BILLING CODE 4910-13-P